Proclamation 8408 of August 31, 2009

National Prostate Cancer Awareness Month, 2009

By the President of the United States of America

A Proclamation

As a Nation, we have made significant progress in the fight against prostate cancer. Over the last decade, prostate cancer mortality rates have fallen substantially. Yet, despite this progress, among men in the United States prostate cancer remains the most commonly diagnosed cancer and the second leading cause of cancer deaths. One in six men in this country will be diagnosed with prostate cancer. National Prostate Cancer Awareness Month is an opportunity to renew our commitment to find better ways to prevent, detect, and control this disease.

Prostate cancer affects both those stricken with the disease and their families, often occurring when they least expect it. The cancer does not discriminate among husbands, fathers, brothers, and sons, and it does not differentiate on race, age, or income. Americans of every background know its dangers. Families share in the struggles of prostate cancer, bearing the emotional and financial concerns along with the afflicted.

My Administration supports prevention efforts and research to develop better screening tests, uncover more effective treatments, and ensure quality care for all who are diagnosed with this illness. We must ensure that more men are educated about all aspects of the disease including prevention, early detection and possible treatment options. To expand our knowledge of this cancer, the National Institutes of Health, the Department of Defense, and the Centers for Disease Control and Prevention are playing leading roles in research. Their work is helping to reduce the burden of prostate cancer and save lives for generations to come.

This month, we remember the lives we have lost, and we recommit ourselves to supporting those currently battling against the disease. National Prostate Cancer Awareness Month also highlights the great medical advancements we have made and reminds us there is still much work to be done. As a Nation, we are united in our resolve to reduce incidence of prostate cancer and improve the lives of all those affected.

NOW, THEREFORE, I, BARACK OBAMA, President of the United States of America, by virtue of the authority vested in me by the Constitution and laws of the United States, do hereby proclaim September 2009 as National Prostate Cancer Awareness Month. I encourage citizens, Government agencies, private businesses, nonprofit organizations, and other interested groups to join in activities that will increase awareness of what Americans can do to prevent and control prostate cancer.

IN WITNESS WHEREOF, I have hereunto set my hand this thirty-first day of August, in the year of our Lord two thousand nine, and of the Independence of the United States of America the two hundred and thirty-fourth.

[FR Doc. E9-21502

Filed 9-2-09; 11:15 am]

Billing code 3195-W9-P